DEPARTMENT OF LABOR

Employment and Training Administration

[TA-W-40,531]

Price Pfister, Inc., Pacoima, CA; Dismissal of Application for Reconsideration

Pursuant to 29 CFR 90.18(C) an application for administrative reconsideration was filed with the Director of the Division of Trade Adjustment Assistance for workers at Price Pfister, Inc., Pacoima, California. The application contained no new substantial information which would bear importantly on the Department's determination. Therefore, dismissal of the application was issued.

TA-W-40,531; Price Pfister, Inc., Pacoima, California (June 3, 2002).

Signed at Washington, DC this 14th day of June, 2002.
Edward A. Tomchick,
Director, Division of Trade Adjustment Assistance.

[FR Doc. 02-15749 Filed 6-20-02; 8:45 am]

BILLING CODE 4510-30-P